DEPARTMENT OF AGRICULTURE

Forest Service

Notice of Intent To Prepare an Environmental Impact Statement, Fernow Experimental Forest, Tucker County, WV

AGENCY: Department of Agriculture, Forest Service

ACTION: Notice of intent to prepare an Environmental Impact Statement, Fernow Experimental Forest, Tucker County, WV.

SUMMARY: The USDA Forest Service will prepare an Environmental Impact Statement (EIS) to document the analysis and disclose environmental impacts of proposed actions to continue long-term research on the Fernow Experimental Forest, and to manage the Fernow Experimental Forest for long-term ecological research. The purpose of the proposed research is to evaluate the effectiveness of silvicultural tools that include harvesting, herbicide control of vegetation, fertilization and prescribed burning on central Appalachian forests, to better understand ecological dynamics within these forest ecosystems, and to develop management tools, practices and guidelines for central Appalachian hardwood forests.

The 4,700-acre Fernow Experimental Forest is situated within the boundary of the Monongahela National Forest in Tucker County, West Virginia and is managed by the Northern Research Station of the USDA Forest Service. These proposed research activities are in compliance with the Monongahela 2006 Revised Forest Plan, which provides overall guidance for management of the area, including direction for management of the Fernow Experimental Forest, and with planning documents of the Northern Research Station and Fernow Experimental Forest.

Public Involvement: The public is invited to comment on the Proposed Action during the analysis process. In order to best use your comments, please submit them in writing within 30 days of this announcement. Additional information is available on the Web at http://nrs.fs.fed.us/ef/locations/wv/fernow/EIS. Comments may also be submitted electronically at the above Web address.

DATES: Comments concerning the scope of the analysis must be received no later than January 19, 2010. The draft EIS is expected to be filed with the Environmental Protection Agency and available for public review in March 2010. The comment period on the draft EIS will be 45 days from the date the Environmental Protection Agency publishes the notice of availability of the draft EIS in the Federal Register. The final EIS is expected in June 2010.

ADDRESSES: Send written comments to USDA Forest Service, Timber and Watershed Laboratory, Attn: Fernow EIS, P.O. Box 404, Parsons, WV 26287. Comments may also be submitted on-line at http://nrs.fs.fed.us/ef/locations/wv/fernow/EIS or via facsimile to 304-478-8692.

It is important that reviewers provide their comments at such times and in such a way that they are useful to the Agency's preparation of the EIS. Therefore, comments should be provided prior to the close of the comment period and should clearly articulate the reviewer's concerns and contentions.

Comments received in response to this solicitation, including names and addresses of those who comment, will be part of the public record for this proposed action. Comments submitted anonymously will be accepted and considered, however.

FOR FURTHER INFORMATION CONTACT: Mary Beth Adams, Project Leader, USDA Forest Service, Northern Research Station, P.O. Box 404, Parsons, WV 26287; (304) 478-2000; mbadams@fs.fed.us.

Individuals who use telecommunication devices for the deaf (TDD) may call the Federal Information Relay Service (FIRS) at 1-800-877-8339 between 8 a.m. and 8 p.m., Eastern Time, Monday through Friday.

SUPPLEMENTARY INFORMATION:

Purpose and Need for Action

Sound management of Appalachian hardwood forests is important for maintaining the productivity and diversity of these woodlands, and to sustain their value for the many owners and users of forest land throughout the Appalachians. To achieve these goals, management guidelines based on sound scientific research are needed. Often it is necessary that this research be long-term in scope and duration to adequately describe long-lived forests. Accordingly, to meet these information needs, the purpose of the proposed actions is to (1) conduct research on the effects of various silvicultural practices on forest productivity, species composition and diversity, wildlife populations and ecosystems processes, and (2) manage the Fernow Experimental Forest for long-term ecosystem research.

Proposed Action

The proposed action involves using the following silvicultural treatments in on-going research studies: Diameter-limiting cutting treatment on 94 acres, single-tree selection on 121 acres, financial maturity harvesting on 214 acres, 93 acres of small clearcuts, group selection on 31 acres, and prescribed fire on 562 acres. Other treatments include fertilization of about 101 acres using ammonium sulfate fertilizer, herbicide treatment of selected trees and invasive exotic plants, and maintenance of roads and other infrastructure.

Responsible Official

The responsible official is the Project Leader of NRS-01, USDA Forest Service, Northern Research Station, P.O. Box 404, Parsons, WV 26287.

Nature of Decision To Be Made

The decision to be made is whether or not to conduct research and management activities, including harvest, prescribed fire, fertilization, and herbicide treatments, on approximately 1,227 acres of the Fernow Experimental Forest during a 5-year period, to meet the purpose and need for action through some other combination of activities, or to take no action at this time.

Scoping Process

This notice of intent initiates the scoping process, which guides the development of the environmental impact statement. The Forest Service is soliciting comments from Federal, State and local agencies and other individuals or organizations that may be interested in or affected by the proposed research activities, by contacting persons and organizations on the Fernow's mailing list and publishing a notice in the local newspaper. No scoping meetings are planned at this time. The present solicitation is for comments on this Notice of Intent and scoping materials. Comments from the public and other agencies will be used in preparation of the draft EIS. The scoping process will be used to identify questions and issues regarding the proposed action. An issue is defined as a point of dispute, debate, or disagreement related to a specific proposed action based on its anticipated effects. Significant issues brought to our attention are used during an environmental analysis to develop alternatives to the proposed action.

It is important that reviewers provide their comments at such times and in such manner that they are useful to the agency's preparation of the environmental impact statement. Therefore, comments should be provided prior to the close of the comment period and should clearly articulate the reviewer's concerns and contentions.

Dated: December 11, 2009.
Mary Beth Adams,
Project Leader, NRS-01.

[FR Doc. E9-30057 Filed 12-17-09; 8:45 am]

BILLING CODE 3410-11-P